DEPARTMENT OF COMMERCE

Foreign-Trade Zones Board

[Order No. 1645]

Reorganization/Expansion of Foreign-Trade Zone 25; Broward County, FL

Pursuant to its authority under the Foreign-Trade Zones (FTZ) Act of June 18, 1934, as amended (19 U.S.C. 81a-81u), the Foreign-Trade Zones Board (the Board) adopts the following Order:

Whereas, the Port Everglades Department of Broward County, grantee of Foreign-Trade Zone 25, submitted an application to the Board for authority to expand and reorganize FTZ 25, within the Port Everglades Customs and Border Protection port of entry (FTZ Docket 70-2008, filed 12/11/2008);

Whereas, notice inviting public comment was given in the Federal Register (73 FR 79441, 12/29/2008) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to reorganize and expand FTZ 25 is approved, subject to the Act and the Board's regulations, including Section 400.28.

Signed at Washington, DC, this 27th day of August 2009.
Ronald K. Lorentzen,
Acting Assistant Secretary of Commerce for Import Administration, Alternate Chairman, Foreign-Trade Zones Board.
Attest:
Andrew McGilvray,
Executive Secretary.

[FR Doc. E9-21902 Filed 9-9-09; 8:45 am]

BILLING CODE P